FEDERAL COMMUNICATIONS COMMISSION

[MM 98-204; DA 03-1116]

Media Bureau Implements New EEO Form 396 With Mandatory Electronic Filing

AGENCY: Federal Communications Commission.

ACTION: Notice.

SUMMARY: This document announces the mandatory electronic filing of the FCC broadcast Equal Employment Opportunity Form 396. The Commission suspended the previous version of this form and adopted the current version with a new EEO rule. Paper version of the form will not be accepted after deadline date unless accompanied by request for waiver.

FOR FURTHER INFORMATION CONTACT: Lewis Pulley (202) 418-1456 or Roy Boyce (202) 418-1438, Policy Division, Media Bureau.

SUPPLEMENTARY INFORMATION: This is a summary of the Media Bureau's Public Notice (“PN”), DA 03-1116, released April 9, 2003. The complete text of this PN is available for inspection and copying during normal business hours in the FCC Reference Center, Room CY-A257, 445 12th Street, SW., Washington, DC and may also be purchased from the Commission's copy contractor, Qualex International, Portals II, 445 12th Street SW., Room CY-B-402, Washington, DC 20554, telephone (202) 863-2893, facsimile (202) 863-2898, or via e-mail qualexint@aol.com.

Synopsis of Public Notice

1. By this PN the Media Bureau announces mandatory electronic filing for FCC Form 396 Broadcast Equal Employment Opportunity Program Report (March, 2003 Edition).

2. Mandatory electronic filing commenced on April 1, 2003. The paper version of this form will not be accepted for filing after April 1, 2003, unless accompanied by an appropriate request for waiver of the electronic filing requirement. Users can access the electronic filing system via the Internet from the Media Bureau's Web site at: http://www.fcc.gov/mb.

3. Pursuant to the 1998 Biennial Regulatory Review—Streamlining of Mass Media Applications, Rules and Processes (63 FR 66104, December 1, 1998, Notice of Proposed Rulemaking “NPRM”), mandatory electronic filing was to commence six-months after a given form was made available for electronic use. The then Mass Media Bureau made FCC Form 396 available for electronic use more than six months ago. The form was made available in connection with a broadcast Equal Employment Opportunity (“EEO”) rule adopted in January 2000 that was subsequently vacated as a result of a Court order. As a result of the Court's action, the prior version of Form 396 was suspended in January 2001. The current version was adopted by the Second Report and Order, (68 FR 670, January 7, 2003) and Third Notice of Proposed Rule Making (67 FR 77374, December 17, 2002) in MM Docket No. 98-204, that adopted a new broadcast EEO rule. It is substantially similar to the version adopted in January 2000.

4. In the NPRM, which announced the Commission's electronic filing requirement, the Commission recognized the need for limited waivers of this requirement in light of the “burden that electronic filing could place upon some licensees who are seeking to serve the public interest, with limited resources, and succeed in a highly competitive local environment.” Such waivers will not be routinely granted and the applicant must plead with particularity the facts and circumstances warranting relief.

5. Instructions for use of the electronic filing system are available in the CDBS User's Guide which can be accessed from the electronic filing web site. Special attention should be given to the details of the applicant account registration function, form filing function, and the fee form handling procedures, if a fee is required. Failure to follow the procedures in the User's Guide may result in an application being dismissed, returned, or not considered as officially filed.

6. Internet access to the CDBS public access system at the Commission's Web site requires a user to have a browser such as Netscape version 3.04 or Internet Explorer version 3.51, or later.

7. For technical assistance using the system or to report problems, please contact the CDBS Help Desk at (202) 418-2MMB. To request additional information concerning specific broadcast applications, please call (202) 418-2700 (radio forms) or (202) 418-1600 (television forms).

FCC Notice Required by the Paperwork Reduction Act

8. On February 14, 2003, the Commission received approval for the information collection contained herein pursuant to the “emergency processing” provisions of the Paperwork Reduction Act of 1995 (5 CFR 1320.13). The OMB Control Number for the FCC Form 396 is 3060-0113. The annual reporting burdens for this collection of information, including the time for reviewing instructions, searching existing data sources, gathering and maintaining the required data and completing and reviewing the collection of information, are estimated to be: 2,000 respondents, 1.5 hours per response per annum, for a total annual burden of 3000 hours; $100,000 in annual costs. If you have any comments on this burden estimate, or how we can improve the collection and reduce the burden it causes you, please write to Les Smith, Federal Communications Commission, Room 1-A804, 445 12th Street, SW., Washington, DC, 20554. Please include the OMB Control Number: 3060-0113, in your correspondence. We will also accept your comments regarding the Paperwork Reduction Act aspects of this collection via the Internet if you send them to lesmith@fcc.gov or call (202) 418-0217.

9. Under 5 CFR 1320, an agency may not conduct or sponsor a collection of information unless it displays a current valid control number. No person shall be subject to any penalty for failing to comply with a collection of information subject to the Paperwork Reduction Act (PRA) that does not display a valid control number. The OMB Control Number for this collection is 3060-0120. The forgoing Notice is required by the Paperwork Reduction Act of 1995, Public Law 104-13, October 1, 1995, 44 U.S.C. 3507.

Federal Communications Commission.
Marlene H. Dortch,
Secretary.

[FR Doc. 03-10855 Filed 5-1-03; 8:45 am]

BILLING CODE 6712-01-P